DEPARTMENT OF HEALTH AND HUMAN SERVICES

National Institutes of Health

Center for Scientific Review; Amended Notice of Meeting

Notice is hereby given of a change in the meeting of the Center for Scientific Review Special Emphasis Panel, September 13, 2011, 11 a.m. to September 13, 2011, 1:30 p.m., National Institutes of Health, 6701 Rockledge Drive, Bethesda, MD, 20892 which was published in the Federal Register on August 24, 2011, 76 FR 52958-52959.

The meeting will be held September 15, 2011 9:45 a.m.-1 p.m. The meeting location remains the same. The meeting is closed to the public.

Dated: August 30, 2011.
Jennifer S. Spaeth,
Director, Office of Federal Advisory Committee Policy.

[FR Doc. 2011-22696 Filed 9-2-11; 8:45 am]

BILLING CODE 4140-01-P